DEPARTMENT OF ENERGY

Federal Energy Regulatory Commission

[Docket No. RP02-455-002]

PG&E Gas Transmission, Northwest Corporation; Notice of Compliance Filing

February 20, 2003.

Take notice that on February 14, 2003, PG&E Gas Transmission, Northwest Corporation (GTN) tendered for filing as part of its FERC Gas Tariff, Second Revised Volume No. 1-A, Second Revised Sheet No. 147, First Revised Sheet No. 148, and First Revised Sheet No. 149, with an effective date of October 1, 2002.

GTN states that the filing is being made to comply with requirements of the Commission's January 31, 2003 Letter Order accepting GTN's October 15, 2002 compliance filing in this docket subject to conditions. GTN proposes that these tariff sheets be made effective October 1, 2002, consistent with the effective date approved by the Commission for the tariff sheets included in GTN's previous filings in this docket.

GTN further states that a copy of this filing has been served on GTN's jurisdictional customers and interested state regulatory agencies.

Any person desiring to protest said filing should file a protest with the Federal Energy Regulatory Commission, 888 First Street, NE., Washington, DC 20426, in accordance with Section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: February 26, 2003.

Magalie R. Salas,
Secretary.

[FR Doc. 03-4465 Filed 2-25-03; 8:45 am]

BILLING CODE 6717-01-P